DEPARTMENT OF COMMERCE

International Trade Administration

(A-533-502, A-583-008, A-549-502, A-489-501, A-351-809, A-201-805, A-580-809, A-583-814)

Certain Circular Welded Carbon Steel Pipes and Tubes from India, Taiwan, Thailand, and Turkey, and Circular Welded Non-Alloy Steel Pipe from Brazil, Republic of Korea, Mexico, and Taiwan; Notice of Final Results of Expedited Five-Year (“Sunset”) Reviews of Antidumping Duty Orders

AGENCY: Import Administration, International Trade Administration, Department Commerce.

SUMMARY: On July 1, 2005, the Department of Commerce (“the Department”) initiated the second sunset reviews of the antidumping duty orders on certain circular welded carbon steel pipes and tubes from India, Taiwan, Thailand, and Turkey, and circular welded non-alloy steel pipe from Brazil, Republic of Korea (“Korea”), Mexico, and Taiwan, pursuant to section 751(c) of the Tariff Act of 1930, as amended (“the Act”). On the basis of a notice of intent to participate and adequate substantive responses filed on behalf of the domestic interested parties and inadequate response from respondent interested parties, the Department has conducted expedited sunset reviews of these antidumping duty orders. As a result of these sunset reviews, the Department finds that revocation of the antidumping duty orders would likely lead to continuation or recurrence of dumping at the level indicated in the “Final Results of Review” section of this notice.

EFFECTIVE DATE: November 8, 2005.

FOR FURTHER INFORMATION CONTACT: Dana Mermelstein, Antidumping/Countervailing Duty Operations, Import Administration, International Trade Administration, U.S. Department of Commerce, 14th Street and Constitution Avenue, NW, Washington, DC, 20230; telephone:(202) 482-1391.

SUPPLEMENTARY INFORMATION:

Background

Pursuant to section 736 of the Tariff Act of 1930, as amended (the Act), the Department published in the Federal Register the antidumping duty orders on Certain Circular Welded Carbon Steel Pipes and Tubes from India, Taiwan, Thailand, Turkey, and Circular Welded Non-Alloy Steel Pipe from Brazil, Korea, Mexico, and Taiwan. See Antidumping Duty Order; Certain Welded Carbon Steel Standard Pipes and Tubes from India; 51 FR 17384 (May 12, 1986), Certain Circular Carbon Welded Pipes and Tubes from Taiwan; Antidumping Duty Order, 49 FR 19369 (May 7, 1984), Antidumping Duty Order; Circular Welded Carbon Steel Pipes and Tubes from Thailand; 51 FR 8341 (March 11, 1986), Antidumping Duty Order; Welded Carbon Steel Standard Pipe and Tube Products from Turkey, 51 FR 17784 (May 15, 1986), Antidumping Duty Orders; Certain Welded Non Alloy Steel Pipe from Brazil, Korea, and Mexico and Amendment to Final Determination of Sales at Less than Fair Value; Certain Circular Welded Non Alloy Steel Pipe from Korea, 57 FR 49453 (November 2, 1992); Antidumping Duty Order: Circular Welded Non Alloy Steel Pipe from Taiwan, 57 FR 49454 (November 2, 1992).

Pursuant to section 751(c) of the Act, on August 22, 2000, the Department published the continuation notice of the antidumping duty orders on Certain Circular Welded Carbon Steel Pipes and Tubes from India, Taiwan, Thailand, Turkey, and Circular Welded Non-Alloy Steel Pipe from Brazil, Korea, Mexico, and Taiwan, after the ITC found that revocation of the antidumping duty orders would be likely to lead to continuation or recurrence of material injury to an industry in the United States within a reasonablely foreseeable time.¹

¹ See Continuation of Antidumping Duty Orders; Light-Walled Rectangular Welded Carbon Steel Pipe and Tube From Taiwan; Circular Welded Non Alloy Steel Pipe and Tube from Brazil, Korea, Mexico, and Taiwan; Welded Carbon Steel Pipe and Tube From India, Thailand, and Turkey; and Small Diameter Standard and Rectangular Steel Pipe and Tube from Taiwan, 65 FR 50955 (August 22, 2000).

On July 1, 2005, the Department published a notice of initiation of the second sunset reviews of the antidumping duty orders on Certain Circular Welded Carbon Steel Pipes and Tubes from India, Taiwan, Thailand, Turkey, and Circular Welded Non-Alloy Steel Pipe from Brazil, Korea, Mexico, and Taiwan, pursuant to section 751(c) of the Act.²

² See Initiation of Five-Year (“Sunset”) Reviews, 70 FR 38101 (July 1, 2005).

For each of these sunset reviews, the Department received notice of intent to participate from Allied Tube and Conduit, Copperweld Corporation, IPSCO Tubulars, Leavitt Tube Company, Maverick Tube Corporation, Northwest Pipe Company, Sharon Tube Company, Western Tube and Conduit, and Wheatland Tube Company (collectively, “the domestic interested parties”), within the deadline specified in section 351.218(d)(1)(i) of the Department's regulations. The domestic interested parties claimed interested party status under section 771(9)(C) of the Act as U.S. producers of the subject merchandise.

On June 29, 2005, we received complete substantive responses to the notice of initiation from the domestic interested parties within the 30-day deadline specified in section 351.218(d)(3)(i) of the Department's regulations. We did not receive any responses from respondent interested parties to these proceedings. On October 25, 2005, the Department received amendments to the July 29, 2005, substantive responses from the domestic interested parties because Mariuchi American Corporation was erroneously included as one of the domestic interested parties.

Based on these circumstances, pursuant to section 751(c)(3)(B) of the Act and section 351.218(e)(1)(ii)(C)(2) of the Department's regulations, the Department has conducted expedited sunset reviews of these antidumping duty orders.

Scopes of the Antidumping Duty Orders

See Appendix 1

Analysis of Comments Received

All issues raised in these cases are addressed in the Issues and Decision Memorandum for Final Results of Expedited Sunset Reviews of the Antidumping Duty Orders on Certain Circular Welded Carbon Steel Pipes and Tubes from India, Taiwan, Thailand, Turkey, and Circular Welded Non-Alloy Steel Pipe from Brazil, Korea, Mexico, and Taiwan from Stephen J. Claeys, Deputy Assistant Secretary for Import Administration, to Joseph A. Spetrini, Acting Assistant Secretary for Import Administration, (“Decision Memo”), dated October 31, 2005, which is hereby adopted by this notice. The issues discussed in the Decision Memo include the likelihood of continuation or recurrence of dumping and the magnitude of the margin likely to prevail if the orders were revoked. Parties can find a complete discussion of all issues raised in these sunset reviews and the corresponding recommendations in this public memo, which is on file in room B-099 of the main Commerce Building.

In addition, a complete version of the Decision Memo can be accessed directly on the Web at http://ia.ita.doc.gov/frn, under the heading “November 2005”. The paper copy and electronic version of the Decision Memo are identical in content.

Final Results of Reviews

We determine that revocation of the antidumping duty orders on Certain Circular Welded Carbon Steel Pipes and Tubes from India, Taiwan, Thailand, Turkey, and Circular Welded Non-Alloy Steel Pipe from Brazil, Korea, Mexico, and Taiwan would likely lead to continuation or recurrence of dumping at the following weighted-average percentage margins:

Manufacturers/Exporters/Producers | Weighted-average margin (percent)
India (A-533-502)
Tata Iron and Steel Company, Ltd. | 7.08
All Others | 7.08
Taiwan (A-583-008)
Kao Hsing Chang | 9.70
Tai Feng | 43.70
Yieh Hsing | 38.50
All Others | 9.70
Thailand (A-549-502)
Saha Thai Steel Pipe Co. | 15.69
Thai Steel Pipe Industry Co. | 15.60
All Others | 15.67
Turkey (A-489-501)
Borusan Ithicat ve Dagitim | 1.26
Erkboru Profil Sanayi ve Ticaret | 23.12
Mannesmann-Sumerbank Boru Industrisi | 23.12
All Others | 14.74
Brazil (A-351-809)
Perisco Pizzamiglio S.A. | 103.38
All Others | 103.38
Korea (A-580-809)
Hyundai Steel Pipe Co., Ltd | 6.86
Korea Steel Pipe Co., Ltd | 6.21
Masan Steel Tube Works Co., Ltd | 11.63
Pusan Steel Pipe Co., Ltd. | 4.91
All Others | 6.37
Mexico (A-201-805)
HYLSA, S.A. de C.V. | 32.62
All Others | 32.62
Taiwan (A-580-814)
Kao Hsing Chang Iron and Steeel Corp. | 19.46
Yieh Hsing Enterprise Co., Ltd. | 27.65
All Others | 23.56

This notice serves as the only reminder to parties subject to administrative protective orders (“APO”) of their responsibility concerning the return or destruction of proprietary information disclosed under APO in accordance with section 351.305 of the Department's regulations.

Timely notification of the return or destruction of APO materials or conversion to judicial protective order is hereby requested. Failure to comply with the regulations and terms of an APO is a violation which is subject to sanction.

We are issuing and publishing the results and notice in accordance with sections 751(c), 752(c), and 777(i)(1) of the Act.

Dated: October 31, 2005.
Joseph A. Spetrini,
Acting Assistant Secretary for Import Administration.

APPENDIX 1

Scopes of the Antidumping Duty Orders

India -- Welded Carbon Steel Pipe and Tube (A-533-502)

The merchandise subject to this antidumping duty order include circular welded non-alloy steel pipe and tube, of circular cross-section, but not more than 406.4 millimeters (16 inches) in outside diameter, regardless of wall thickness, surface finish (black, galvanized, or painted), or end finish (plain end, beveled end, threaded, or threaded and coupled). These pipe and tube are generally known as standard pipe, though they may also be called structural or mechanical tubing in certain applications. Standard pipe and tube are intended for the low-pressure conveyance of water, steam, natural gas, air and other liquids and gases in plumbing and heating systems, air-conditioner units, automatic sprinkler systems, and other related uses. Standard pipe may also be used for light load-bearing and mechanical applications, such as for fence tubing, and for protection of electrical wiring, such as conduit shells. The scope is not limited to standard pipe and fence tubing or those types of mechanical and structural pipe that are used in standard pipe applications. All carbon-steel pipe and tube within the physical description outlined above are included in the scope of this order, except for line pipe, oil-country tubular goods, boiler tubing, cold-drawn or cold-rolled mechanical tubing, pipe and tube hollows for redraws, finished scaffolding, and finished rigid conduit. Imports of the products covered by this order are currently classifiable under the following Harmonize Tariff Schedule of the United States (HTSUS) subheadings: 7306.30.10.00, 7306.30.50.25, 7306.30.50.32, 7306.30.50.40, 7306.30.50.55, 7306.30.50.85, and 7306.30.50.90.

Taiwan -- Circular Welded Carbon Steel Pipe and Tube (Small Diameter Carbon Steel Pipe and Tube) (A-583-008)

The merchandise subject to this antidumping duty order are shipments of certain circular welded carbon steel pipe and tube. The Department defines such merchandise as welded carbon steel pipe and tube of circular cross section, with walls not thinner than 0.065 inch and 0.375 inch or more but not over 4 1/2 inches in outside diameter. These products are commonly referred to as “standard pipe” and are produced to various American Society for Testing Materials Specifications, most notably A-53, A-120, or A-135. Standard pipe is currently classified under HTSUS item numbers 7306.30.5025, 7306.30.5032, 7306.30.5040, and 7306.30.5055.

Thailand -- Welded Carbon Steel Pipe and Tube (A-549-502)

The merchandise subject to this antidumping duty order is certain circular welded carbon steel pipe and tube, commonly referred to in the industry as “standard pipe” or “structural tubing,” with walls not thinner than 0.065 inches, and 0.375 inches or more, but not over 16 inches in outside diameter. The subject merchandise was classifiable under items 610.3231, 610.3234, 610.3241, 610.3242, 610.3243, and 610.3252, 610.3254, 610.3256, 610.3258, 610.4925 of the Tariff Schedule of the United States of America (TSUSA). Currently, it is classifiable under item numbers 7306.30.1000, 7306.30.5025, 7306.30.5032, and 7306.30.5040, 7306.30.5055, 7306.30.5085 and 7306.30.5090 of the HTSUS. There was one scope ruling in which British Standard light pipe 387/67, Class A-1 was found to be within the scope of the order per remand (58 FR 27542, May 10, 1993).

Turkey -- Welded Carbon Steel Pipe and Tube (A-489-501)

The merchandise subject to this antidumping duty order includes circular welded non-alloy steel pipe and tube, of circular cross-section, not more than 16 inches in outside diameter, regardless of wall thickness, surface finish (black, galvanized, or painted) or end finish (plain end, beveled end, threaded, or threaded and coupled). These pipe and tube are generally known as standard pipe, though they may also be called structural or mechanical tubing in certain applications. Standard pipe and tube are intended for the low-pressure conveyance of water, steam, natural gas, air and other liquids and gases in plumbing and heating systems, air-conditioner units, automatic sprinkler systems, and other related uses. Standard pipe may also be used for light load-bearing and mechanical applications, such as for fence tubing, and for protections of electrical wiring, such as conduit shells. The scope is not limited to standard pipe and fence tubing or those types of mechanical and structural pipe that are used in standard pipe applications. All carbon steel pipe and tube within the physical description outline above are included in the scope of this review, except for line pipe, oil country tubular goods, boiler tubing, cold-drawn or cold-rolled mechanical tubing, pipe and tube hollows for redraws, finished scaffolding, and finished rigid conduit. The subject merchandise was classifiable under items 610.3231, 610.3234, 610.3241, 610.3242, 610.3243, and 610.3252, 610.3254, 610.3256, 610.3258, 610.4925 of the TSUSA; currently, it is classifiable under item numbers 7306.30.1000, 7306.30.5025, 7306.30.5032, and 7306.30.5040, 7306.30.5055, 7306.30.5085 and 7306.30.5090 of the HTSUS.

Brazil, Korea and Mexico -- Circular Welded Non-Alloy Steel Pipe and Tube (A-351- 809, A-580-809, A-201-805)

The products covered by this order are circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders. All carbon steel pipes and tubes within the physical description outlined above are included within the scope of this order, except line pipe, oil country tubular goods, boiler tubing, mechanical tubing, pipe and tube hollows for redraws, finished scaffolding, and finished conduit. Standard pipe that is dual or triple certified/stenciled that enters the U.S. as line pipe of a kind used for oil or gas pipelines is also not included in this order.

Imports of the products covered by this order are currently classifiable under the following Harmonized Tariff Schedule (HTS) subheadings: 7306.30.10.00, 7306.30.50.25, 7306.30.50.32, 7306.30.50.40, 7306.30.50.55, 7306.30.50.85, and 7306.30.50.90.

Although the HTS subheadings are provided for convenience and customs purposes, our written description of the scope of this order is dispositive.

Taiwan -- Circular Welded Non-Alloy Steel Pipe and Tube (A-583-814)

The products covered by this order are (1) circular welded non-alloy steel pipes and tubes, of circular cross section over 114.3 millimeters (4.5 inches), but not over 406.4 millimeters (16 inches) in outside diameter, with a wall thickness of 1.65 millimeters (0.065 inches) or more, regardless of surface finish (black, galvanized, or painted), or end-finish (plain end, beveled end, threaded, or threaded and coupled); and (2) circular welded non-alloy steel pipes and tubes, of circular cross-section less than 406.4 millimeters (16 inches), with a wall thickness of less than 1.65 millimeters (0.065 inches), regardless of surface finish (black, galvanized, or painted) or end-finish (plain end, beveled end, threaded, or threaded and coupled). These pipes and tubes are generally known as standard pipes and tubes and are intended for the low pressure conveyance of water, steam, natural gas, air, and other liquids and gases in plumbing and heating systems, air conditioning units, automatic sprinkling systems, and other related uses, and generally meet ASTM A-53 specifications. Standard pipe may also be used for light load-bearing applications, such as for fence-tubing and as structural pipe tubing used for framing and support members for construction, or load-bearing purposes in the construction, shipbuilding, trucking, farm-equipment, and related industries. Unfinished conduit pipe is also included in this order. All carbon steel pipes and tubes within the physical description outlined above are included within the scope of this investigation, except line pipe, oil country tubular goods, boiler tubing, mechanical tubing, pipe and tube hollows for redraws, finished scaffolding, and finished conduit. Standard pipe that is dual or triple certified/stenciled that enters the U.S. as line pipe of a kind or used for oil and gas pipelines is also not included in this investigation.

Imports of the products covered by this order are currently classifiable under the following Harmonized Tariff Schedule (HTS) subheadings, 7306.30.10.00, 7306.30.50.25, 7306.30.50.32, 7306.30.50.40, 7306.30.50.55, 7306.30.50.85, 7306.30.50.90.

Although the HTS subheadings are provided for convenience and customs purposes, our written description of the scope of this proceeding is dispositive.

[FR Doc. 05-22241 Filed 11-7-05; 8:45 am]

BILLING CODE: 3510-DS-S